DEPARTMENT OF AGRICULTURE

Rural Utilities Service

Seminole Electric Cooperative, Inc.; Notice of Intent To Hold Public Scoping Meeting and Prepare a Supplemental Environmental Impact Statement

AGENCY: Rural Utilities Service, USDA.

ACTION: Notice of intent to hold a public scoping meeting and prepare an Environmental Impact Statement (EIS).

SUMMARY: The Rural Utilities Service (RUS) intends to hold a public scoping meeting and prepare a supplemental Environmental Impact Statement (EIS) in connection with possible impacts related to a project proposed by Seminole Electric Cooperative, Inc. (SECI), with headquarters in Tampa, Florida. The proposal consists of the construction of a nominal 750 megawatt coal-based electrical generating unit at the Seminole Generating Station (SGS). The Station is located in Putnam County, Florida, about six miles north of Palatka. SGS Unit 3 will be constructed near the existing SGS Units 1 and 2. The new unit can be readily accommodated on the existing site. The financing and construction of the SGS Unit 1 and 2 was evaluated in a previous EIS. SECI is requesting RUS provide financing for the proposed project.

DATES: RUS will conduct a public scoping meeting in an open-house format, seeking the input of the public and other interested parties, on October 20, 2005, 3 p.m. to 7 p.m., at the Campbell Center at Ravine Gardens State Park, 1600 Twigg Street, Palatka, Florida 32177, 386-329-3721.

A scoping document for the preparation of a supplemental environmental impact statement will be available for review at the public scoping meeting. The document also is available for public review at RUS at the address provided in this notice, at Seminole Electric Cooperative, 16313 North Dale Mabry Highway, Tampa, Florida 33618, at Seminole Generating Station, 890 North Highway 17, Palatka, Florida 32177, and at,

Putnam County Library System: Headquarters Palatka Library, 601 College Road, Palatka, Florida 32177-3873.

Crescent City Public Library Branch, 610 N. Summit, Crescent City, Florida 32212-2148.

Bostwick Community Library Branch, 125 Tillman Street, P.O. Box 489, Bostwick, Florida 32007.

FOR FURTHER INFORMATION CONTACT: Stephanie Strength, Environmental Protection Specialist, USDA, Rural Development, Utilities Programs, Engineering and Environmental Staff, 1400 Independence Avenue, SW., Stop 1571, Washington, DC 20250-1571, telephone: (202) 720-0468 or e-mail: stephanie.strength@wdc.usda.gov, or James Frauen, Manager of Environmental Affairs, Seminole Electric Cooperative, Inc., P.O. Box 272000, Tampa, Florida 33688-2000 or e-mail: jfrauen@seminole-electric.com.

SUPPLEMENTARY INFORMATION: SECI proposes to construct and operate a nominal 750-megawatt coal-based electric generating facility (Unit 3) at its existing Seminole Generating Station, located in Putnam County, Florida, about six miles north of Palatka on U.S. Highway 17. SECI intends to license the construction and operation of SGS Unit 3 in conjunction with the continued operation of the existing Units 1 and 2. Unit 1 began commercial operation in January 1984 and Unit 2 began commercial operation in January 1985. Unit 3, a high efficiency, advanced technology coal unit with state of the art emission controls, will be constructed near Units 1 and 2. Unit 3 proposes to start commercial operation by May 1, 2012. It has been determined that a third unit can be readily accommodated on the existing plant site. Fuel (coal and petroleum coke) for all three units will continue to be delivered to the site by rail.

The Unit 3 project is estimated to cost $1.2 billion, which includes approximately $440 million for environmental controls. In addition, Seminole will also invest more than $200 million for advanced air emissions controls on Units 1 and 2 to remove additional amounts of sulfur dioxide, nitrogen oxide, and mercury. A new zero discharge system will be installed to reuse and evaporate process wastewater from all three units resulting in further improvement of the quality of the Station's water discharge to the St. Johns River.

Alternatives considered include no action, purchased power, renewable energy sources, distributed generation, and alternative site locations. Comments regarding the proposed project may be submitted (orally or in writing) at the public scoping meetings or in writing for receipt no later than November 21, 2005, to RUS at the address provided in this notice.

As mentioned previously, the financing and construction of the existing SGS Units 1 and 2 were evaluated in a previous EIS prepared by the Rural Electrification Administration. The final EIS and Record of Decision for the Seminole Plant Unit 1 and 2 and Associated Transmission Facilities were published in 1979. This EIS evaluated the environmental effects of the construction of two 600 MW coal-fired electric generating units and associated 230 kV transmission facilities. This EIS will be supplemented to evaluate the environmental effects of the proposed action.

RUS will use input provided by government agencies, private organizations, and the public in the preparation of a Draft Supplemental EIS. The Draft Supplemental EIS will be available for review and comment for 45 days. A Final Supplemental EIS will then be prepared that considers all comments received. The Final Supplemental EIS will be available for review and comment for 30 days. Following the 30-day comment period, RUS will prepare a Record of Decision (ROD). Public notices announcing the availability of the Draft and Final Supplemental EIS and the ROD will be published in the Federal Register and in the Palatka Daily News.

Any final action by RUS related to the proposed project will be subject to, and contingent upon, compliance with all relevant Federal, State and local environmental laws and regulations and completion of the environmental review requirements as prescribed in the RUS Environmental Policies and Procedures (7 CFR part 1794).

Dated: October 4, 2005.
Glendon D. Deal,
Director, Engineering and Environmental Staff, USDA/Rural Development/Utilities Programs.

[FR Doc. 05-20309 Filed 10-7-05; 8:45 am]

BILLING CODE 3410-15-P